ENVIRONMENTAL PROTECTION AGENCY

[ER-FRL-8997-8]

Environmental Impacts Statements; Notice of Availability

Responsible Agency: Office of Federal Activities, General Information (202) 564-1399 or http://www.epa.gov/compliance/nepa/

Weekly receipt of Environmental Impact Statements

Filed 06/27/2011 Through 07/01/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110210, Final EIS, USFS, NM, McKinley County Easement—Forest Roads 191 and 191D, Implementation, Cibola National Forest, McKinley County, NM, Review Period Ends: 08/08/2011, Contact: Keith Baker 505-346-3820.

EIS No. 20110211, Draft EIS, USFS, AK, Ketchikan—Misty Fiords Outfitter and Guide Management Plan, Authorizes Outfitter and Guide Operations through the Issuance of Special-Use-Permits, Tongass National Forest, Ketchikan-Misty Ranger District, Ketchikan, AK, Comment Period Ends: 08/22/2011, Contact: Susan Jennings 907-723-0477.

EIS No. 20110212, Draft EIS, BLM, CA, Ocotillo Express Wind Energy Project, Proposing to Develop a 465-Megawatt Wind Energy Facility, Implementation, Imperial County, CA, Comment Period Ends: 10/05/2011, Contact: Cedric Perry 951-697-5388.

EIS No. 20110213, Final EIS, FAA, RI, Theodore Francis Green Airport Improvement Program, Proposing Improvements to Enhance Safety and the Efficiency of the Airport and the New England Regional Airport System, City of Warwick, Kent County, RI, Review Period Ends: 08/08/2011, Contact: Richard Doucette 781-238-7613.

EIS No. 20110214, Draft Supplement, USFS, ND, North Billings County Allotment Management Plan Revisions, Updated Information, Proposes to Continue to Permit Livestock Grazing on 43 Allotments, Medora Ranger District, Dakota Prairie Grasslands, Billings County, ND, Comment Period Ends: 08/22/2011, Contact: Nickole Dahl 701-227-7800.

EIS No. 20110215, Final EIS, FHWA, WI, Wisconsin Highway Project, Mobility Motorized and Nonmotorized Travel Enhancements, Updated Information on New Alternatives, and Evaluates a Staged Improvement, US18/151 (Verona Road) and the US 12/14 (Beltine) Corridors, Dane County, WI, Review Period Ends: 08/08/2011, Contact: George R. Poirier 608-829-7500.

EIS No. 20110216, Final EIS, FHWA, UT, Hyde Park/North Logan Corridor Project, Proposed 200 East Transportation Corridor between North Logan City and Hyde Park, Funding, Right-of-Way Acquisitions and US Army COE Section 404 Permit, Cache County, UT, Review Period Ends: 08/08/2011, Contact: Paul C. Ziman 801-955-3525.

Amended Notices

EIS No. 20110149, Draft EIS, USFS, MT, Troy Mine Revised Reclamation Plan, Proposed Revision is to Return Lands Disturbed by Mining to a Condition Appropriate for Subsequent Use of the Area, Kootenai National Forest, MT, Comment Period Ends: 08/05/2011, Contact: Bobbie Loaklen 406-283-7681.

Revision to FR Notice Published 05/20/2011: Extending Comment Period from 07/05/2011 to 08/05/2011.

Dated: July 5, 2011.
Aimee S. Hessert,
Deputy Director, NEPA Compliance Division, Office of Federal Activities.

[FR Doc. 2011-17199 Filed 7-7-11; 8:45 am]

BILLING CODE 6560-50-P